DEPARTMENT OF TRANSPORTATION

Maritime Administration

[Docket No. MARAD-2020-0076]

Request for Comments of a Previously Approved Information Collection, Approval of Underwriters of Marine Hull Insurance

AGENCY: Maritime Administration, DOT.

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on March 16, 2020.

DATES: Comments must be submitted on or before June 26, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Mike Yarrington, 202-366-1915, Director, Office of Marine Insurance, Maritime Administration, U.S. Department of Transportation, 1200 New Jersey Avenue SE, Washington, DC 20590.

SUPPLEMENTARY INFORMATION: Title: Approval of Underwriters of Marine Hull Insurance.

OMB Control Number: 2133-0517.

Type of Request: Renewal of a Previously Approved Information Collection.

Background: This collection of information involves the approval of marine hull underwriters to insure MARAD program vessels. Applicants will be required to submit financial data upon which MARAD approval would be based. This information is needed in order that MARAD officials can evaluate the underwriters and determine their suitability for providing marine hull insurance on MARAD vessels.

Respondents: Marine insurance brokers and underwriters of marine insurance.

Affected Public: Business or other for profit.

Total Estimated Number of Responses: 66.

Frequency of Collection: Annually.

Estimated Time per Respondent: .05-1 hr.

Total Estimated Number of Annual Burden Hours: 49.

Public Comments Invited: Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

(Authority: The Paperwork Reduction Act of 1995; 44 U.S.C. Chapter 35, as amended; and 49 CFR 1.93)

Dated: May 21, 2020.
By Order of the Maritime Administrator.
T. Mitchell Hudson, Jr.,
Secretary, Maritime Administration.

[FR Doc. 2020-11310 Filed 5-26-20; 8:45 am]

BILLING CODE 4910-81-P